DEPARTMENT OF THE INTERIOR

Bureau of Land Management

[LLES956000-L14200000-BJ0000-LXSITRST0000]

Eastern States: Filing of Plats of Survey

AGENCY: Bureau of Land Management, Interior.

ACTION: Notice of Filing of Plats of Survey; Alabama, Florida, and North Carolina.

SUMMARY: The Bureau of Land Management (BLM) will file the plats of survey of the lands described below in the BLM-Eastern States office in Springfield, Virginia, 30 calendar days from the date of publication in the Federal Register.

FOR FURTHER INFORMATION CONTACT: Bureau of Land Management-Eastern States, 7450 Boston Boulevard, Springfield, Virginia 22153. Attn: Cadastral Survey.

SUPPLEMENTARY INFORMATION: The surveys were requested by the Bureau of Indian Affairs.

The lands surveyed are:

St. Stephens Meridian, Alabama

T. 1 N., R. 6 E.

The plat of survey represents the dependent resurvey of a portion of the subdivisional lines, and the survey of a tract of land held in trust for the Poarch Band of Creek Indians, in Township 1 North, Range 6 East, of the St. Stephens Meridian, in the State of Alabama, and was accepted September 27, 2010.

T. 5 N., R. 6 E.

The plat of survey represents the dependent resurvey of a portion of the subdivision of Section 26, and the survey of parcel no. 6, land held in trust for the Poarch Band of Creek Indians, in Township 5 North, Range 6 East, of the St. Stephens Meridian, in the State of Alabama, and was accepted September 27, 2010.

Tallahassee Meridian, Florida

T. 5 N., R 33 W.

The plat of survey represents the dependent resurvey of a portion of the North boundary, a portion of the subdivisional lines, the survey of the subdivision of Section 5, and the survey of Parcel No. 5, land held in trust for the Poarch Band of Creek Indians, in Township 5 North, Range 33 West, of the Tallahassee Meridian, in the State of Florida, and was accepted September 27, 2010.

Swain County, North Carolina

The plat of survey represents the dependent resurvey of a portion of the 3200 acre tract, land held in trust for the Eastern Band of Cherokee Indians, in Swain County, in the State of North Carolina, and was accepted September 29, 2010.

Swain County, North Carolina

The plat of survey represents the dependent resurvey of a portion of the Qualla Indian Boundary, land held in trust for the Eastern Band of Cherokee Indians, in Swain County, in the State of North Carolina, and was accepted September 16, 2010.

We will place copies of the plats we described in the open files. They will be available to the public as a matter of information.

If BLM receives a protest against a survey, as shown on the plat, prior to the date of the official filing, we will stay the filing pending our consideration of the protest.

We will not officially file the plats until the day after we have accepted or dismissed all protests and they have become final, including decisions on appeals.

Dated: November 18, 2010.
Dominica Van Koten,
Chief Cadastral Surveyor.

[FR Doc. 2010-29803 Filed 11-24-10; 8:45 am]

BILLING CODE 4310-GJ-P